NATIONAL SCIENCE FOUNDATION

Advisory Committee for Computer and Information Science and Engineering; Notice of Meeting

In accordance with the Federal Advisory Committee Act (Pub. L. 92-463, as amended), the National Science Foundation (NSF) announces the following meeting:

NAME: Advisory Committee for Computer and Information Science and Engineering (CISE) (1115).

DATE/TIME: December 3, 2015: 11:30 a.m. to 5:30 p.m.; December 4, 2015: 8:30 a.m. to 12:15 p.m.

PLACE: National Science Foundation, 4201 Wilson Boulevard, Suite 1235, Arlington, Virginia 22230.

TYPE OF MEETING: OPEN.

CONTACT PERSON: Carmen Whitson, National Science Foundation, 4201 Wilson Boulevard, Suite 1105, Arlington, Virginia 22230; 703/292-8900.

PURPOSE OF MEETING: To advise NSF on the impact of its policies, programs and activities on the CISE community. To provide advice to the Assistant Director for CISE on issues related to long-range planning, and to form ad hoc subcommittees and working groups to carry out needed studies and tasks.

AGENDA:

• Overview and CISE Update

• Update on NSF Advanced Cyberinfrastructure major activities, recent new national initiatives, and computer science education efforts

• Working group breakout sessions and report out: New Partnership Models for CISE Research, Data Science

• Presentation and discussion on envisioning the future of CISE in 2025

• Discussion with NSF Director, Dr. France Córdova

• Closing remarks and wrap-up

Dated: November 14, 2015.
Crystal Robinson,
Committee Management Officer.

[FR Doc. 2015-28451 Filed 11-6-15; 8:45 am]

BILLING CODE 7555-01-P